DEPARTMENT OF ENERGY

Federal Energy Regulatory Commission

[Docket Nos. ER06-615-000; ER07-1257-000; ER08-1113-000; OA08-62-000]

California Independent System Operator Corporation; Notice of FERC Staff Attendance

February 17, 2009.

The Federal Energy Regulatory Commission (Commission) hereby gives notice that on the following dates members of its staff will participate in teleconferences and meetings to be conducted by the California Independent System Operator (CAISO). The agenda and other documents for the teleconferences and meetings are available on the CAISO's Web site, http://www.caiso.com.

February 23, 2009 | MRTU Parallel Operations Touchpoint.
February 24, 2009 | MRTU Parallel Operations Touchpoint.
| Systems Interface Users Group.
| Payment Acceleration Working Group.
February 25, 2009 | Settlements and Market Clearing Users Group.
February 26, 2009 | MRTU Parallel Operations Touchpoint.
| Residual Unit Commitment Procedure.
| Participating Transmission Owner Unit Costs.
February 27, 2009 | 2009 Transmission Plan.
March 2, 2009 | MRTU Parallel Operations Touchpoint.
March 3, 2009 | MRTU Parallel Operations Touchpoint.
| Systems Interface Users Group.
March 4, 2009 | Settlements and Market Clearing Users Group.
| Congestion Revenue Rights.
March 5, 2009 | MRTU Parallel Operations Touchpoint.

Sponsored by the CAISO, the teleconferences and meetings are open to all market participants, and Commission staff's attendance is part of the Commission's ongoing outreach efforts. The teleconferences and meetings may discuss matters at issue in the above captioned dockets.

For further information, contact Saeed Farrokhpay at saeed.farrokhpay@ferc.gov; (916) 294-0233 or Maury Kruth at maury.kruth@ferc.gov, (916) 294-0275.

Kimberly D. Bose,
Secretary.

[FR Doc. E9-3854 Filed 2-23-09; 8:45 am]

BILLING CODE 6717-01-P